COMMITTEE FOR PURCHASE FROM PEOPLE WHO ARE BLIND OR SEVERELY DISABLED

Procurement List; Proposed Addition

AGENCY: Committee for Purchase From People Who Are Blind or Severely Disabled.

ACTION: Proposed Addition to the Procurement List.

SUMMARY: The Committee is proposing to add a service to the Procurement List that will be provided by the nonprofit agency employing persons who are blind or have other severe disabilities.

DATES: Comments must be received on or before: 10/10/2011.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Addition

If the Committee approves the proposed addition, the entity of the Federal Government identified in this notice will be required to procure the service listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organization that will provide the service to the Government.

2. If approved, the action will result in authorizing small entities to provide the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agency listed:

Service:

Service Type: Rubbish Removal and Recycling Service.

Locations: I.R.S. Offices at the following locations:

Submission Processing Center & Tax Break Café,

3651 S. IH-35, Austin, TX.

Connection Warehouse, 2021 East Woodward, Austin, TX.

Southpark G (CSB), 1821 Directors Blvd., Austin, TX.

Southpark J, 2191 Woodward, Austin, TX.

Southpark K, 4175 Freidrich Lane, Austin, TX.

South Tech. Bldg. 4, 2101 East Saint Elmo Road, Austin, TX.

Child Development Center, 3651 South IH-35, Austin, TX.

JJ Pickle Federal Building, 300 E. 8th St., Austin, TX .

Research Park, 2301 Research Blvd., Bldg. 4, Austin, TX.

Rundberg Building, 825 E. Rundberg Lane, Austin, TX.

Southpark Office Center (SPOC), 5015 S. IH-35, Austin, TX.

NPA: Austin Task, Inc., Austin, TX.

Contracting Activity: Dept. of Treasury, Internal Revenue Service, Chicago, IL.

Patricia Briscoe,
Deputy Director, Business Operations (Pricing and Information Management).

[FR Doc. 2011-23108 Filed 9-8-11; 8:45 am]

BILLING CODE 6353-01-P